DEPARTMENT OF LABOR

Employment and Training Administration

[TA-W-85,468]

Comcast Cable Central Division Customer Care, Alpharetta, Georgia; Notice of Negative Determination Regarding Application for Reconsideration

By application dated October 21, 2014, workers requested administrative reconsideration of the Department of Labor's negative determination regarding eligibility to apply for Trade Adjustment Assistance (TAA) applicable to workers and former workers of Comcast Cable, Central Division Customer Care, Alpharetta, Georgia (subject firm). The determination was issued on September 22, 2014. The Department's Notice of determination was published in the Federal Register on October 21, 2014 (79 FR 62971).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination was based on the Department's findings that the subject firm does not produce an article within the meaning of Section 222(a) or Section 222(b) of the Act. In order to be considered eligible to apply for adjustment assistance under Section 223 of the Trade Act of 1974, the worker group seeking certification (or on whose behalf certification is being sought) must work for a “firm” or appropriate subdivision that produces an article. The definition of a firm includes an individual proprietorship, partnership, joint venture, association, corporation (including a development corporation), business trust, cooperative, trustee in bankruptcy, and receiver under decree of any court.

During the investigation, the Department obtained information that revealed that the subject firm did not produce an article; rather, the subject firm supplied services related to call center services.

In the request for reconsideration, the workers assert that their jobs were outsourced to foreign countries but did not provide information pertaining to the subject firm producing an article. 29 CFR 90.

The petitioners did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 9th day of December, 2014
Michael W. Jaffe,
Certifying Officer, Office of Trade Adjustment Assistance.

[FR Doc. 2014-29828 Filed 12-19-14; 8:45 am]

BILLING CODE 4510-FN-P